DEPARTMENT OF AGRICULTURE

Cooperative State Research, Education, and Extension Service

Notice of Intent To Revise a Currently Approved Information Collection

AGENCY: Cooperative State Research, Education, and Extension Service, USDA.

ACTION: Notice and request for comments.

SUMMARY: In accordance with the Paperwork Reduction Act of 1995 (Pub. L. 104-13) and Office of Management and Budget (OMB) regulations at 5 CFR part 1320 (60 FR 44977, August 29, 1995), this notice announces the Cooperative State Research, Education, and Extension Service's (CSREES) intention to revise a currently approved information collection entitled, “Cooperative State Research, Education and Extension Service Application Kit for Research and Extension Programs.”

DATES: Comments on this notice must be received by September 27, 2002, to be assured of consideration.

ADDRESSES: Written comments concerning this notice may be mailed to Louise Ebaugh, Deputy Administrator; Office of Extramural Programs; Cooperative State Research, Education, and Extension Service; U.S. Department of Agriculture; STOP 2299; 1400 Independence Avenue, SW.; Washington, DC 20250-2299 or sent electronically to: rfp-oep@reeusda.gov.

FOR FURTHER INFORMATION CONTACT: To request a copy of the information collection, contact Louise Ebaugh, (202) 720-9181.

SUPPLEMENTARY INFORMATION: Title: Cooperative State Research, Education, and Extension Service Application Kit for Research and Extension Programs.

OMB Number: 0524-0039.

Expiration Date of Current Approval: March 31, 2004.

Type of Request: Revise a currently approved information collection.

Abstract: The Cooperative State Research, Education, and Extension Service (CSREES) sponsors ongoing agricultural research, extension, and education programs under which competitive, special, and other awards of a high-priority nature are made. Before awards can be made, certain information is required from applicants as part of an overall proposal package. In addition to project summaries, descriptions of the research, extension, or education efforts, literature reviews, curricula vitae of project directors, and other, relevant technical aspects of the proposed project, supporting documentation of an administrative and budgetary nature also must be provided.

Because of the nature of the competitive, peer-reviewed process, it is important that information from applicants be available in a standardized format to ensure equitable treatment. Each year, solicitations are issued requesting proposals for various research, education, and extension areas targeted for support. Applicants submit proposals for these targeted areas following formats outlined in the proposal application guidelines accompanying each program's solicitation. These proposals are evaluated by peer review panels and awarded on a competitive basis. Forms CSREES-2002, “Proposal Cover Page;” CSREES-2003, “Project Summary;” CSREES-2004, “Proposal Budget;” CSREES-2005, “Current and Pending Support;” CSREES-2006, “National Environmental Policy Act Exclusions;” CSREES-2007, “Identification of Conflicts of Interest;” CSREES-2008, “Assurance Statement(s);” and the Proposal Summary/Proposal Narrative (no assigned form number) are mainly used for proposal evaluation and administration purposes. While some of the information is used to respond to inquiries from Congress and other government agencies, the forms are not designed to be statistical surveys or data collection instruments. Their completion by potential recipients is a normal part of the application to agencies which support basic and applied science. The following information is collected:

Form CSREES-2002—Proposal Cover Page: Provides names, mailing and electronic addresses, and telephone numbers of project directors and authorized agents of applicant institutions and general information regarding the proposals.

Form CSREES-2003—Project Summary: Lists the Project Director(s) and their institution(s), project title and key words, and a project summary which allows for quick screening and assignment of proposals to peer reviewers.

Form CSREES-2004—Proposal Budget: Provides a breakdown of the purposes for which funds will be spent in the event of an award.

Form CSREES-2005—Current and Pending Support: Provides information for active and pending projects.

Form CSREES-2006—National Environmental Policy Act Exclusions: Allows identification of whether or not the proposal fits one of the exclusions listed for compliance with the National Environmental Policy Act (7 CFR Part 3407). This information is used in determining whether or not further action is needed to meet the requirements of this Act.

Form CSREES-2007—Identification of Conflicts of Interest: Lists the person(s) who are in conflict of interest with the applicant(s). This is used when selecting peer review panels to assure objective reviews.

Form CSREES-2008—Assurance Statement(s): Provides required assurances of compliance with regulations involving the protection of human subjects, animal welfare, and recombinant DNA research. This form is be used for competitive, special, and formula-funded projects.

Proposal Summary/Proposal Narrative: Provides a description of the proposed activity for which support is requested including objectives, plan of operation, and the project's significance to higher education in the food and agricultural sciences.

New Form CSREES-2010—Fellowships/Scholarships Entry/Exit Form: This form will only apply to recipients of a CSREES fellowship or scholarship. The form will be used to document fellowship appointments and scholarships, pertinent demographic data on the fellows/scholars, and documentation of the progress of the fellows/scholars under the program.

Estimate of Burden: Public reporting burden for this collection of information is estimated to average 24.75.

Respondents: Non-profit institutions, and State, local, or Tribal governments.

Estimated Number of Respondents: For applicants: 7,150 each for the Proposal Summary/Proposal Narrative and Forms CSREES-2002, -2003, -2004, -2005, -2006, and -2007 and 9,450 for Form CSREES-2008. For grantees: 50 for Form CSREES-2010.

Estimated Total Annual Burden on Respondents: 156,813 hours broken down by: 21,450 hours for Form CSREES-2002, “Proposal Cover Page,” (three hours per response); 3,575 hours for Form CSREES-2003, “Project Summary,” (one-half hour per response); 7,150 hours for Form CSREES-2004, “Proposal Budget,” (one hour per response); 7,150 hours for Form CSREES-2005, “Current and Pending Support,” (one hour per response); 1,788 hours for Form CSREES-2006, “National Environmental Policy Act Exclusions,” (one-quarter hour per response); 3,575 hours for Form CSREES-2007, “Identification of Conflicts of Interest,” (one-half hour per response); 4,725 hours for Form CSREES-2008, “Assurance Statement,” (one-half hour per response); 107,250 for the “Proposal Summary/Proposal Narrative,” (an average of 15 hours per response); and 150 hours for Form CSREES-2010, “Fellowships/Scholarships Entry/Exit Form,” (three hours per response).

Frequency of Respondents: Annually.

Comments: Comments are invited on: (a) Whether the proposed collection of information is necessary for the proper performance of the functions of the agency, including whether the information will have practical utility; (b) the accuracy of the agency's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments should be sent to the address stated in the preamble.

All responses to this notice will be summarized and included in the request for OMB approval. All comments also will become a matter of public record.

Done at Washington, DC, this 16th day of July, 2002.
Joseph J. Jen,
Under Secretary, Research, Education, and Economics.

[FR Doc. 02-18647 Filed 7-23-02; 8:45 am]

BILLING CODE 3410-22-P